DEPARTMENT OF LABOR

Comment Request for Information Collection for the Cascades Job Corps College and Career Academy Pilot Evaluation, New Collection

AGENCY: Office of the Assistant Secretary for Policy, Chief Evaluation Office, Department of Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed.

A copy of the proposed Information Collection Request (ICR) can be obtained by contacting the office listed in the addressee section of this notice.

DATES: Written comments must be submitted to the office listed in the addressee's section below on or before August 26, 2016.

ADDRESSES: You may submit comments by either one of the following methods: Email: ChiefEvaluationOffice@dol.gov; Mail or Courier: Molly Irwin, U.S. Department of Labor, Room S-2312, 200 Constitution Avenue NW., Washington, DC 20210.

FOR FURTHER INFORMATION CONTACT: Molly Irwin by telephone at 202-693-5091 (this is not a toll-free number) or by email at ChiefEvaluationOffice@dol.gov.

SUPPLEMENTARY INFORMATION:

I. Background

The Chief Evaluation Office (CEO), U.S. Department of Labor (DOL), is proposing a data collection activity as part of the Cascades Job Corps College and Career Academy Evaluation Pilot Evaluation. The goal of the evaluation is to determine the effectiveness of the Pilot program in improving employment and educational outcomes for youth ages 21 and under. The impact study will randomly assign individuals to receive program services or to a group that cannot access these services but who can participate in other similar programs. The impact study will compare the employment and educational outcomes of the groups to determine the effectiveness of the pilot program. The evaluation also includes an implementation study that will describe the services participants receive through the pilot program as well as provide operational lessons.

This Federal Register Notice provides the opportunity to comment on three proposed new information collection activities for the Cascades Job Corps College and Career Academy Evaluation Pilot Evaluation: (1) A baseline survey of sample members in the evaluation, administered at the time of application to the program; and (2) discussion guides for in-person or phone interviews with Cascades staff, leadership in other Job Corps sites, employers, other program partners, and Cascades participants; and (3) postcards mailed to sample members in the evaluation to request address updates.

The baseline survey and discussion guides will provide vital data for the evaluation. The postcards will provide the evaluation with accurate locating information for sample members and thereby improve response rates for the follow-on survey.

II. Review Focus

DOL is soliciting comments concerning the above data collection for the Cascades Job Corps College and Career Academy Pilot Evaluation. DOL is particularly interested in comments that do the following:

• Evaluate whether the proposed collection of information is necessary for the proper performance functions of the agency, including whether the information will have practical utility;

• Evaluate the accuracy of the agency's burden estimate of the proposed information collection, including the validity of the methodology and assumptions used;

• Enhance the quality, utility, and clarity of the information to be collected; and

• Minimize the burden of the collection of information on those who are to respond, including through the use of appropriate automated, electronic, mechanical, or other technological collection techniques or other forms of information technology (for example, permitting electronic submissions of responses).

III. Current Actions

DOL is requesting clearance for the baseline survey of sample members, discussion guides for stakeholder interviews, and postcards mailed to sample members of the Cascades Job Corps College and Career Academy Pilot Evaluation.

Type of Review: New collection.

Title: Cascades Job Corps College and Career Academy Pilot Evaluation.

OMB Number: OMB Control Number 1205—0NEW.

Estimated Total Burden Hours
Activity | Total number of respondents | Number of responses per respondent | Total annual response | Average burden hours per response | Total annual burden hours
Baseline survey | * 1,000 | 1 | 333.3 | .50 | 167
Discussion guides:
Center staff | 8 | 2 | 5.3 | 1 | 5.3
Employer and Program partners interviews | 9 | 1 | 3 | 1 | 3
Leadership in other Job Corps sites | 3 | 2 | 2 | 1 | 2
Center participants | 18 | 1 | 6 | 1.5 | 9
Postcards | 1,000 | ** 1 | 333.3 | .08 | 26.7
Total | 2,025 |  | 682.9 |  | 213
* Assumes a sample of 1,000 with a 100 percent response rate.
** Assumes 3 mailings per respondent with an average of 1 response per respondent.

Affected Public: Participants applying for the Cascades Job Corps College and Career Academy; Cascades staff; Leadership in other Job Corps sites; Program partners.

Form(s): Baseline survey; Discussion guides; Postcards.

Total respondents: 2,025.

Annual Frequency: One time.

Comments submitted in response to this comment request will be summarized and/or included in the request for Office of Management and Budget approval of the information collection request; they will also become a matter of public record.

Stephanie Swirsky,
Deputy Assistant Secretary for Policy, U.S. Department of Labor.

[FR Doc. 2016-15121 Filed 6-24-16; 8:45 am]

BILLING CODE 4510-HX-P